FEDERAL ELECTION COMMISSION

Sunshine Act Meeting

AGENCY: Federal Election Commission.

Date and Time: Tuesday, August 20, 2002 at 10 A.M.

Place: 999 E Street, NW., Washington, DC.

Status: This meeting will be closed to the public.

Items to be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date and Time: Thursday, August 22 at 10 A.M.

Place: 999 E Street, NW., Washington, DC (ninth floor).

Status: This meeting will be open to the public.

Items to be Discussed: Correction and Approval of Minutes.

Draft Advisory Opinion 2002-09: Target Wireless by counsel, Diana Hartstein.

Notice of Proposed Rulemaking on Fraudulent Solicitations, Disclaimers, Personal Use of Campaign Funds, Increased Civil Penalties, and Inaugural Committees.

Routine Administrative Matters.

Person to Contact for Information: Mr. Ron Harris, Press Officer, Telephone: (202) 694-1220.

Mary W. Dove,
Secretary of the Commission.

[FR Doc. 02-20819 Filed 8-13-02; 11:11 am]

BILLING CODE 6715-01-M